DEPARTMENT OF COMMERCE

National Oceanic and Atmospheric Administration

[I.D. 051705E]

New England Fishery Management Council; Public Meetings

AGENCY: National Marine Fisheries Service (NMFS), National Oceanic and Atmospheric Administration (NOAA), Commerce.

ACTION: Notice of public meeting.

SUMMARY: The New England Fishery Management Council (Council) is scheduling a public meeting of its Magnuson-Stevens Committee in June, 2005 to consider actions affecting New England fisheries in the exclusive economic zone (EEZ). Recommendations from this group will be brought to the full Council for formal consideration and action, if appropriate.

DATES: The meeting will be held on June 6, 2005. See SUPPLEMENTARY INFORMATION for specific time and location of the meeting.

FOR FURTHER INFORMATION CONTACT: Paul J. Howard, Executive Director, New England Fishery Management Council (978) 465-0492. Requests for special accommodations should be addressed to the New England Fishery Management Council, 50 Water Street, Mill 2, Newburyport, MA 01950; telephone: (978) 465-0492.

SUPPLEMENTARY INFORMATION:

Monday, June 6, 2005 at 9:30 a.m. Magnuson-Stevens Committee Meeting

Location: New England Fishery Management Council, 50 Water Street, Newburyport, MA 01950; telephone: (978) 465-0492.

The Magnuson-Stevens Committee will discuss issues relevant to reauthorization of the Magnuson-Stevens Fishery Conservation and Management Act in 2005. Positions developed by the Council Chairmen this year will be reviewed along with past Council comments. Recommendations will be updated and forwarded to the full Council for their consideration at its June 21-23 meeting in Portland, ME.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard (see ADDRESSES) at least 5 days prior to the meeting dates.

Dated: May 17, 2005.
Tracey Thompson,
Acting Director, Office of Sustainable Fisheries, National Marine Fisheries Service.

[FR Doc. E5-2565 Filed 5-19-05; 8:45 am]

BILLING CODE 3510-22-S